FEDERAL COMMUNICATIONS COMMISSION

Notice of Public Information Collection(s) Being Reviewed by the Federal Communications Commission

November 27, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 5, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0951.

Title: Service of Petitions for Preemption, 47 CFR 1.1204(b) Note and 1.1206(a) Note 1.

Form No.: N/A.

Type of Review: Extension of a currently approved collection.

Respondents: Individuals or households; businesses or other for-profit, not-for-profit institutions and state, local or tribal government.

Number of Respondents: 125.

Estimated Time Per Response: 15 minutes.

Frequency of Response: On occasion reporting requirement and third party disclosure requirement.

Total Annual Burden: 30 hours.

Total Annual Cost: N/A.

Needs and Uses: These provisions supplement the procedures for filing petitions seeking Commission preemption of state and local government regulation of telecommunications services. They require that such petitions, whether in the form of a petition for rulemaking or a petition for declaratory ruling, be served on all state and local governments. The actions for which as cited as a basis for requesting preemption. Thus, in accordance with these provisions, persons seeking preemption must serve their petitions not only on the state or local government whose authority would be preempted, but also on other state or local governments whose actions are cited in the petition.

OMB Control No.: 3060-0937.

Title: Establishment of a Class A Television Service, MM Docket No. 00-10.

Form No.: N/A.

Type of Review: Extension of a currently approved collection.

Respondents: Businesses or other for-profit.

Number of Respondents: 1,000 respondents; 19,370 responses.

Estimated Time Per Response: .166 hours to 52 hours.

Frequency of Response: Recordkeeping requirement, on occasion and quarterly reporting requirement and third party disclosure requirement.

Total Annual Burden: 396,251 hours.

Total Annual Cost: $2,284,000.

Needs and Uses: The Community Broadcasters Protection Act directed the Commission to make Class A television licensees subject to the same operating requirements as that of full-service broadcast stations. The Commission has modified Part 73 to incorporate Class A licensees. The data will be used to ensure that the public is being served and will not cause harmful interference.

Federal Communications Commission.
Magalie Roman Salas,
Secretary.

[FR Doc. 00-30970 Filed 12-05-00; 8:45 am]

BILLING CODE 6712-01-P